DEPARTMENT OF COMMERCE

International Trade Administration

A-570-846

Brake Rotors From the People's Republic of China: Initiation of Antidumping Duty New Shipper Review

AGENCY: Import Administration, International Trade Administration, Department of Commerce.

EFFECTIVE DATE: May 30, 2008.

SUMMARY: The Department of Commerce (“Department”) received a timely request to conduct a new shipper review of the antidumping duty order on brake rotors from the People's Republic of China (“PRC”). In accordance with Section 751(a)(2)(B) of the Tariff Act of 1930, as amended (“Act”), and 19 CFR 351.214(d)(1), we are initiating a new shipper review for Longkou Zhongkai Automobile Parts Co., Ltd. (“Longkou Zhongkai”).

FOR FURTHER INFORMATION CONTACT: Andrea Staebler Berton or Blanche Ziv, AD/CVD Operations, Office 8, Import Administration, International Trade Administration, U.S. Department of Commerce, 14th Street and Constitution Avenue, NW, Washington, DC 20230; telephone: (202) 482-4037 and (202) 482-4207, respectively.

SUPPLEMENTARY INFORMATION:

Background

On March 31, 2008, prior to the beginning of the anniversary month of the antidumping duty order on brake rotors from the PRC, the Department received a request from Longkou Zhongkai for a new shipper review of the order, pursuant to section 751(a)(2)(B) of the Act and 19 CFR 351.214(c). See Notice of Antidumping Duty Order: Brake Rotors from the People's Republic of China, 62 FR 18740 (April 17, 1997).

As required by 19 CFR 351.214(b)(2)(i) and 351.214(b)(2)(iii)(A), Longkou Zhongkai certified that it did not export the subject merchandise to the United States during the period of investigation (“POI”) and that, since the initiation of the investigation, the company has never been affiliated with any exporter or producer who exported subject merchandise to the United States during the POI. Pursuant to 19 CFR 351.214(b)(2)(iii)(B), Longkou Zhongkai further certified that its export activities are not controlled by the central government of the PRC.

In accordance with 19 CFR 351.214(b)(2)(iv), Longkou Zhongkai submitted documentation establishing the following: (1) the date on which it first shipped brake rotors for export to the United States; (2) the volume of its first shipment and any subsequent shipments; and (3) the date of its first sale to an unaffiliated customer in the United States.

Initiation of New Shipper Review

In accordance with section 751(a)(2)(B) of the Act and 19 CFR 351.214(d)(1), we find that the request submitted by Longkou Zhongkai meets the threshold requirements for initiation of a new shipper review of shipments of brake rotors from the PRC produced and exported by this company. See Memorandum to the File through Wendy J. Frankel, Director, AD/CVD Operations, Office 8, and Blanche Ziv, Program Manager, AD/CVD Operations, Office 8, from the Team, entitled “Initiation Checklist of AD New Shipper Review: Brake Rotors from the People's Republic of China,” dated concurrently with this note. Therefore, we are initiating a new shipper review for shipments of brake rotors produced and exported by Longkou Zhongkai. The Department will conduct this new shipper review in accordance with the deadlines set forth in section 751(a)(2)(B)(iv) of the Act.

Pursuant to 19 CFR 351.214(g)(1)(i)(A), the period of review (“POR”) for a new shipper review initiated in the month immediately following the anniversary month normally will cover the 12-month period immediately preceding the anniversary month. Therefore, the POR for this new shipper review will be April 1, 2007, through March 31, 2008.

In cases involving non-market economies, the Department requires that a company seeking to establish eligibility for an antidumping duty rate separate from the PRC-wide entity rate provide evidence of de jure and de facto absence of government control over the company's export activities. Accordingly, we will issue a questionnaire to Longkou Zhongkai, including a separate-rate section. The review will proceed if the responses provide sufficient indication that Longkou Zhongkai is not subject to either de jure or de facto government control with respect to its exports of brake rotors. However, if Longkou Zhongkai does not demonstrate its eligibility for a separate rate, the company will be deemed not separate from other companies that exported during the POI, and the new shipper review for Longkou Zhongkai will be rescinded.

On August 17, 2006, the Pension Protection Act of 2006 (H.R. 4) was signed into law by Congress. Section 1632 of H.R. 4 temporarily suspends the authority of the Department to instruct U.S. Customs and Border Protection to collect a bond or other security in lieu of a cash deposit in new shipper reviews. Therefore, the posting of a bond or other security under section 751(a)(2)(B)(iii) of the Act in lieu of a cash deposit is not available in this case. Importers of brake rotors exported and produced by Longkou Zhongkai must continue to post a cash deposit of estimated antidumping duties on each entry of subject merchandise (i.e., brake rotors) at the PRC-wide entity rate of 43.32 percent.

Interested parties that need access to proprietary information in this new shipper review should submit applications for disclosure under administrative protective order in accordance with 19 CFR 351.305 and 351.306.

This initiation and notice are issued in accordance with section 751(a)(2)(B) of the Act and 19 CFR 351.214(d) and 351.221(c)(1)(i).

Dated: May 22, 2008.
Stephen J. Claeys,
Deputy Assistant Secretary for Import Administration.

[FR Doc. E8-12090 Filed 5-29-08; 8:45 am]

BILLING CODE 3510-DS-S